DEPARTMENT OF LABOR

Employment and Training Administration

Agency Information Collection Activities; Comment Request; Apprenticeship Powered by Industry (API) Data Collection

ACTION: Notice.

SUMMARY: The Department of Labor's (DOL's), Employment and Training Administration (ETA) is soliciting comments concerning proposed authority to conduct the voluntary information collection request (ICR) titled, “Apprenticeship Powered by Industry (API) Data Collection.” This comment request is part of continuing Departmental efforts to reduce paperwork and respondent burden in accordance with the Paperwork Reduction Act of 1995 (PRA).

DATES: Consideration will be given to all written comments received by April 22, 2019.

ADDRESSES: A copy of this ICR with applicable supporting documentation, including a description of the likely respondents, proposed frequency of response, and estimated total burden, may be obtained free by contacting Carolyn Renick by telephone at 202-693-3364 (this is not a toll-free number), TTY 1-877-889-5627 (this is not a toll-free number), or by email at renick.carolyn.g@dol.gov.

Submit written comments about, or requests for a copy of, this ICR by mail or courier to the U.S. Department of Labor, Employment and Training Administration, Office of Apprenticeship, Room C-5311, 200 Constitution Avenue NW, Washington, DC 20210; by email: renick.carolyn.g@dol.gov; or by Fax (202) 693-3799.

FOR FURTHER INFORMATION CONTACT: Carolyn Renick by telephone at 202-693-3364 (this is not a toll-free number) or by email at renick.carolyn.g@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The information collection described in this notice will provide data to (1) estimate the number of business establishments that currently operate apprenticeship and apprenticeship-like earn-and-learn programs across industry groups, and (2) document descriptive information on these existing programs. This research is in direct response to Executive Order 13801, “Expanding Apprenticeships in America” (www.whitehouse.gov/presidential-actions/3245/), as well as the Secretary of Labor and the Office of Apprenticeship's efforts to promote and expand apprenticeship and to establish Industry-Recognized Apprenticeship Programs (IRAPs).

The information collection activities include a brief five- to 10-minute survey of businesses that will gather information on any existing apprenticeship and apprenticeship-like earn-and-learn programs they operate. In addition to the survey, the study includes follow-up interviews with a purposive sample of businesses identified as having apprenticeship-like programs through the survey. The interview protocol will be used to gather more detailed, in-depth information on the existing programs, including the types of participants they serve, the skills they address, the certifications they provide, as well as how the businesses work with organizations to accredit the programs. The interview protocol will also inquire about businesses' training decisions and experiences.

This Federal Register Notice provides the opportunity to comment on these two proposed data collection instruments. Additional details on each are presented below.

Business Survey. Researchers will field a brief five- to 10-minute web-based survey of businesses that will gather information on any existing work-based learning programs they operate. Businesses that prefer to do so will be able to complete the survey over the phone.

Business Follow-up Interview Protocol. Researchers will conduct half-hour phone interviews with a purposive sample of up to 120 businesses identified as having apprenticeship-like programs through the business survey.

Executive Order 13801, “Expanding Apprenticeships in America” authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention 1205-0NEW.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: New.

Title of Collection: Apprenticeship Powered by Industry (API) Data Collection.

Form: 1. Business Survey; 2. Follow-up Business Interview Protocol.

OMB Control Number: 1205-0NEW.

Affected Public: Businesses.

Estimated Number of Respondents: 6,840.

Frequency: Once.

Total Estimated Annual Responses: 6,840.

Estimated Average Time per Response: Varies (Survey 6.5 minutes; Interview 30 minutes).

Estimated Total Annual Burden Hours: 788 hours.

Total Estimated Annual Other Cost Burden: $0.

Molly E. Conway,
Acting Assistant Secretary for Employment and Training.

[FR Doc. 2019-02994 Filed 2-20-19; 8:45 am]

BILLING CODE 4510-FR-P